DEPARTMENT OF AGRICULTURE

Agricultural Research Service

7 CFR Part 504

RIN 0518-AA05

Changes to Fees and Payment Methods

AGENCY: Agricultural Research Service, USDA.

ACTION: Final rule.

SUMMARY: The Agricultural Research Service (ARS) increases its Patent Culture Collection charges, and revises the method of payment.

DATES: This rule is effective December 1, 2015.

FOR FURTHER INFORMATION CONTACT: Jeffrey Kurtz, ARS-Budget and Program Management Staff, George Washington Carver Center, 5601 Sunnyside Avenue, Room 4-1106, Beltsville, Maryland, 20705, telephone: (301) 504-4494, email: jeff.kurtz@ars.usda.gov.

SUPPLEMENTARY INFORMATION: Microbial-based agriculture and biotechnology rely on superior production strains, new strains with novel characteristics, and reference strains for comparative purposes. Such strains are often difficult to acquire or are cost prohibitive for many researchers. ARS has a staff dedicated to the acquisition and distribution of microbial germplasm in which patented strains can be deposited in and distributed from its Patent Culture Collection for a one-time fee to cover maintenance and distribution costs.

ARS' Patent Culture Collection receives about 120 patent deposits per year, and distributes about 450 cultures per year. Nearly all of the accessions and distributions are requested by companies, universities, or Government agencies. Currently, ARS charges $500 for each microbial culture deposit, as set forth in 7 CFR 504.2(a). For each microbial culture distribution ARS charges $20, as set forth in 7 CFR 504.2(b). The current fees, which were established in 1985, did not reflect the actual costs of providing materials and services. ARS is increasing these fees to reflect their actual costs of $670 and $40, respectively, and to apply the distribution fee to all patent deposits regardless of the date of the deposit.

Currently, payment for deposit and requisition of microbial cultures is made by check, draft, or money order payable to the USDA, National Finance Center, as set forth in 7 CFR 504.3(b). ARS is adding pay.gov as a method of payment to assist customers.

The increased fees will enable ARS' Patent Culture Collection to continue its mission of supporting microbiological research and biotechnological innovation, and serve as a repository where patented microbial strains can be deposited and distributed to the scientific community. All of the current services will continue to be offered under the revised fee schedule and method of payment.

This rule was published as a proposed rule for comment on September 2, 2015. See 80 FR 53021, September 2, 2015. No comments were received.

List of Subjects in 7 CFR Part 504

Agricultural research.

For reasons set forth in the preamble, ARS amends 7 CFR part 504 as set forth below:

PART 504—USER FEES

1. The authority citation for part 504 continues to read as follows:

Authority: 31 U.S.C. 9701.

2. Revise § 504.2 to read as follows:

§ 504.2 Fees for deposit and requisition of microbial cultures.

(a) Depositors of microbial cultures must pay a one-time $670 user fee for each culture deposited on or after December 1, 2015.

(b) For cultures deposited on or after December 1, 2015, requestors must pay a $40 user fee for each culture distributed.

3. Revise § 504.3 to read as follows:

§ 504.3 Payment of fees.

(a) Payment of user fees must accompany a culture deposit or request.

(b) Payment shall be made by check, draft, money order, or pay.gov, payable to USDA, National Finance Center.

Dated: November 23, 2015.
Simon Y. Liu,
Associate Administrator, ARS.

[FR Doc. 2015-30449 Filed 11-30-15; 8:45 am]

BILLING CODE 3410-03-P